DEPARTMENT OF AGRICULTURE

Food Safety and Inspection Service

[Docket No. 02-027N]

National Advisory Committee on Microbiological Criteria for Foods

AGENCY: Food Safety and Inspection Service, USDA.

ACTION: Notice of public meeting; request for comments.

SUMMARY: The National Advisory Committee on Microbiological Criteria for Foods (NACMCF) will hold a public meeting on August 28, 2002. The committee will continue to discuss (1) Salmonella performance standards in meat and poultry products, (2) the scientific basis for establishing safety-based “use by” date labeling for refrigerated, ready-to-eat foods, (3) undertake a new topic of assessing the analytical utility of Campylobacter identification and quantification methodologies, and (4) introduce a new topic discussing redefining the meaning of the term “pasteurization.” Subcommittees will also meet on August 26th (performance standards), and the 27th and 29th (safety-based “use by” date labeling for refrigerated, ready-to-eat foods) to continue working on issues in-progress that will be discussed during the full committee session. In addition, a subcommittee will convene on August 6-8, 2002, to continue its discussion of performance standards and discuss the new charge to the committee regarding the FSIS Campylobacter baseline studies.

DATES: The full Committee will hold an open meeting beginning at 9 a.m. on Wednesday, August 28, 2002. During the week of the plenary session, subcommittee meetings will be held on Monday, Tuesday and Thursday, August 26, 27 and 29, 2002. Also, a subcommittee will meet Tuesday through Thursday, August 6-8, 2002. Subcommittee meetings are open to the public.

ADDRESSES: The August 27-29 subcommittee and full committee meetings will be held at the Jurys Washington Hotel, 1500 New Hampshire Ave., NW., Washington, DC, 20036. The subcommittee meetings schedule for August 6-8, and 26, 2002, will be held at the Aerospace Building, 901 “D” St., SW., Washington, DC. The comments and all NACMCF documents related to this meeting will be available for public inspection in the FSIS Docket Room between 8:30 a.m. and 4:30 p.m., Monday through Friday. The comments and NACMCF documents will also be available on the Internet at http://www.fsis.usda.gov/OPPDE/rdad/Publications.htm. FSIS will finalize an agenda on or before the meeting date and post it to its Internet Web page. Send an original and two copies of comments to the Food Safety and Inspection Service Docket Room: Docket #02-027N, Room 102 Cotton Annex Building, 300 12th Street, SW., Washington, DC 20250. Comments may also be sent by facsimile (202) 690-0486. The comments and the official transcript of the meeting, when they become available, will be kept in the FSIS Docket Room at the above address.

FOR FURTHER INFORMATION CONTACT: Persons interested in making a presentation, submitting technical papers, or providing comments should contact Karen Thomas (202) 690-6620, Fax (202) 690-6334, e-mail address: Karen.Thomas@fsis.usda.gov, or mailing address: Food Safety and Inspection Service, Department of Agriculture, Office of Public Health and Science, Aerospace Center, Room 333, 1400 Independence Avenue, SW, Washington, DC 20250-3700. Persons requiring a sign language interpreter or other special accommodations should notify Ms. Thomas, by August 16, 2001.

SUPPLEMENTARY INFORMATION:

Background

The NACMCF was established on April 18, 1988, in response to a recommendation of the National Academy of Sciences for an interagency approach to microbiological criteria for food, and in response to a recommendation of the U.S. House of Representatives Committee on Appropriations, as expressed in the Rural Development, Agriculture, and Related Agencies Appropriation Bill for fiscal 1988. The Charter for the NACMCF is available for viewing on the FSIS Internet Web page at http://www.fsis.usda.gov/OA/programs/nacmcf_chart.htm.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides advice to the Centers for Disease Control and Prevention and the Departments of Commerce and Defense. Dr. Merle Pierson, Deputy Under Secretary for Food Safety, USDA, is the Committee Chair, Dr. Robert E. Brackett, Director for Food Safety, Center for Food Safety and Applied Nutrition, Food and Drug Administration, is the Co-Chair, and Brenda Halbrook, FSIS, is the Director of the Executive Secretariat office.

At the August 28, 2002, meeting, the Committee will

• Discuss Salmonella performance standards in meat and poultry products;

• Discuss the scientific basis for establishing safety-based “use by” date labeling for refrigerated, ready-to-eat foods; and

• Undertake a new topic of assessing the analytical utility of Campylobacter identification and quantification methodologies.

• Introduce a new topic discussing redefining the meaning of the term “pasteurization.”

Documents Reviewed by NACMCF

FSIS intends to make available to the public all materials that are reviewed and considered by NACMCF regarding its deliberations. Generally, these materials will be made available as soon as possible after the full committee meeting. Further, FSIS intends to make these materials available in both electronic format on the FSIS web page, as well as hard copy format in the docket room. Often, an attempt is made to make the materials available at the start of the full committee meeting when sufficient time is allowed in advance to do so.

FSIS also intends to post all comments associated with this docket on its web page in the near future. FSIS reserves the right to redact any offensive language that may have been included in these public comments. The uncensored text will be made available in the FSIS Docket Room.

For electronic copies, all NACMCF documents and comments are electronic conversions from a variety of source formats into HTML that may have resulted in character translation or format errors. Readers are cautioned not to rely on this HTML document. Minor changes to materials in electronic format may be necessary in order to meet the Web Accessibility Act requirement in which graphs, charts, and tables must be accompanied by a text descriptor in order for the vision impaired to be made aware of the content. FSIS will add these text descriptors along with a qualifier that the text is a simplified interpretation of the graph, chart, or table. Portable Document Format (PDF) and/or paper documents of the official text, figures, and tables can be obtained from the FSIS Docket Room.

Copyrighted documents will not be posted on the FSIS web site, but are available for inspection in the FSIS docket room.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on July 30, 2002.
William J. Hudnall,
Acting Administrator.

[FR Doc. 02-19529 Filed 8-1-02; 8:45 am]

BILLING CODE 3410-DM-P